NATIONAL LABOR RELATIONS BOARD

29 CFR Parts 101 and 102

RIN 3142-AA12

Representation-Case Procedures

AGENCY: National Labor Relations Board.

ACTION: Request for information; extension of time to submit responses.

SUMMARY: The National Labor Relations Board (the Board) published a Request for Information in the Federal Register on December 14, 2017, seeking information from the public regarding its representation election regulations, with a specific focus on amendments to the Board's representation case procedures adopted by the Board's final rule published on December 15, 2014. The date to submit responses to the request for information is extended for three days as a result of the lapse in appropriations for the Federal government. The Board is also granting an additional 30 days to file responses to the request for information.

DATES: Responses to the request for information must be received by the Board on or before March 19, 2018. No late responses will be accepted. Responses are limited to 25 pages.

ADDRESSES: Electronic responses may be submitted by going to www.nlrb.gov and following the link to submit responses to this request for information. The Board encourages electronic filing. If you do not have the ability to submit your response electronically, responses may be submitted by mail to: Roxanne Rothschild, Deputy Executive Secretary, National Labor Relations Board, 1015 Half Street SE, Washington, DC 20570.

Dated: January 24, 2018.
Roxanne Rothschild,
Deputy Executive Secretary.

[FR Doc. 2018-01622 Filed 1-26-18; 8:45 am]

BILLING CODE P